FEDERAL COMMUNICATIONS COMMISSION

47 CFR Part 73

[MM Docket No. 93-314 RM-8396]

Radio Broadcasting Services; Cadiz and Oak Grove, KY

AGENCY: Federal Communications Commission.

ACTION: Final rule.

SUMMARY: At the request of Ham Broadcasting, Inc. this document sets aside the action in this proceeding which substituted Channel 293C3 for Channel 292A at Cadiz, reallotted Channel 293C3 to Oak Grove, and modified the Station WKDZ-FM license to specify operation on Channel 293C3 at Oak Grove. See 61 FR 31449, published June 20, 1996. This document also dismisses an Application for Review filed by Southern Broadcasting Corporation directed against that action. The Station WKDZ-FM license will specify operation on Channel 293C3 at Cadiz in accordance with the grant of a construction permit application (File No. BPH-20000427ABE). With this action, the proceeding is terminated.

DATES: Effective May 30, 2001.

FOR FURTHER INFORMATION CONTACT: Robert Hayne, Mass Media Bureau, (202) 418-2177.

SUPPLEMENTARY INFORMATION: This is a synopsis of the Commission's Memorandum Opinion and Order in MM Docket No. 93-314, adopted May 9, 2001, and released May 11, 2001. The full text of this decision is available for inspection and copying during normal business hours in the FCC's Reference Information Center at Portals II, CY-A257, 445 12th Street, SW., Washington, DC. The complete text of this decision may also be purchased from the Commission's copy contractor, International Transcription Service, Inc., (202) 857-3800, 1231 20th Street, NW., Washington, DC 20036.

List of Subjects in 47 CFR Part 73

Radio Broadcasting.

Part 73 of Title 47 of the Code of Federal Regulations is amended as follows:

PART 73—RADIO BROADCAST SERVICES

1. The authority citation for Part 73 continues to read as follows:

Authority: 47 U.S.C. 154, 303, 334, 336.

§ 73.202 [Amended]

2. Section 73.202(b), the Table of FM Allotments under Kentucky, is amended by removing Oak Grove, Channel 293C3.

Federal Communications Commission.
John A. Karousos,
Chief, Allocations Branch, Policy and Rules Division, Mass Media Bureau.

[FR Doc. 01-13449 Filed 5-29-01; 8:45 am]

BILLING CODE 6712-01-P